DEPARTMENT OF TRANSPORTATION

Federal Aviation Administration

Public Meeting/Notice of Availability, Review, and Comment on Preliminary Alternatives for the Development of an Air Tour Management Plan for Hawaii Volcanoes National Park, HI

AGENCY: Federal Aviation Administration (FAA), DOT.

ACTION: Notice of public meeting, request for comments, and availability of preliminary alternatives.

SUMMARY: This notice announces the availability of preliminary air tour alternatives and announces meetings hosted by the National Park Service, Hawaii Volcanoes National Park and the FAA's Air Tour Management Program. The purpose of the meetings is to introduce proposed alternatives to the public which contain routes and altitudes used by air tour operators when providing air tours of the Hawaii Volcanoes National Park. The meetings provide an opportunity for the public to review and comment on alternatives.

DATES: Comment Period: Comments must be received on or before June 6, 2011.

Meetings: The meetings will be held at the following locations, dates, and times:

Volcano, Hawaii

Monday, April 18, 2011, 5:30-7:30 p.m.

Hawaii Volcanoes National Park, Klauea Visitor Center, 1 Crater Rim Drive, Phoa, Hawaii.

Tuesday, April 19, 2011, 5-7 p.m.

Phoa Community Center, 15-2910 Puna Rd., Namacrehu, Hawaii.

Wednesday, April 20, 2011, 5-7 p.m.

Nalehu Community Center, 95-5635 Mamalahoa Highway.

FOR FURTHER INFORMATION CONTACT: Ms. Vicki McCusker, National Park Service, Natural Resource Program Center, Natural Sounds and Night Skies Division, 1201 Oakridge Drive, Suite 100, Fort Collins, CO 80525; telephone: (970) 267-2117 or Mr. Larry Tonish, Federal Aviation Administration, Air Tour Management Program, AWP-1SP, 15000 Aviation Blvd., Hawthorne, CA 90250; telephone: (310) 725-3817.

SUPPLEMENTARY INFORMATION: The FAA is issuing this notice pursuant to the National Parks Air Tour Management Act of 2000 (Pub. L. 106-181) and its implementing regulations contained in Title 14, Code of Federal Regulations, Part 136, National Parks Air Tour Management. The public is invited to review and provide comment on alternatives in the development of an Air Tour Management Plan (ATMP) for the Hawaii Volcanoes National Park. The FAA is the Lead Agency and the NPS is a Cooperating Agency in the development of an Environmental Impact Statement (EIS), an ATMP, and associated rulemaking actions which comply with the National Environmental Policy Act of 1969 (NEPA) requirements.

The EIS is being prepared in accordance with FAA Order 1050.1E, environmental Impacts: Policies and Procedures, NPS Director's Order#12: Conservation Planning, Environmental Impact Analysis, and Decision-making, and NPS Management Policies. The FAA is now inviting the public, agencies, and other interested parties to provide comments, suggestions, and input regarding the range of alternatives and the potential impacts and effects of the alternatives on commercial air tours, natural resources, congressionally designated wilderness, cultural resources, and the park visitor experience.

Attendance is open to the interested public but limited to space availability. The FAA requests that comments be as specific as possible in response to actions that are being proposed under this notice. Both oral and written comments will be accepted during these meetings. Agency personnel will be available to document your spoken comments. All written comments become part of the official record along with previously submitted scoping comments. Written comments on the preliminary alternatives should be submitted at the public meetings, electronically via the electronic public comment form on the NPS Planning, Environment and Public Comment System at: http://parkplanning.nps.gov/documentsAndLinks.cfm?projectID=29122 or sent to the mailing addresses listed in the FOR FURTHER INFORMATION CONTACT section.

Documents that describe the Hawaii Volcanoes National Park ATMP project in greater detail and the preliminary ATMP alternatives under consideration are available online at the following Web addresses:

• FAA Air Tour Management Plan Program Web site, http://www.faa.gov/about/office_org/headquarters_offices/arc/programs/air_tour_management_plan/.

• NPS Planning, Environment and Public Comment Web site at: http://parkplanning.nps.gov/documentsAndLinks.cfm?projectID=29122.

• Hawaii Volcanoes National Park Web site at http://www.nps.gov/havo/parkmgmt/plan.htm.

A newsletter containing descriptions and drawings of preliminary alternatives may be obtained after April 8, 2011 at the following Hawaii Island locations or by contacting those names given in the FOR FURTHER INFORMATION CONTACT section.

• Klauea Visitor Center, Hawaii Volcanoes National Park, Hawaii National Park, HI.

• Hilo Public Library, 300 Waianuenue Ave., Hilo, HI.

• Kailua-Kona Public Library, 75-138 Hualalai Rd., Kailua-Kona, HI.

• Mountain View Public Library, 1235 Volcano Highway, Mountain View, HI.

• Phoa Public Library, 15-3038 Puna Rd., Pāhoa, HI.

• Nlehu Public Library, 95 5669 Mamalahoa Highway, Nlehu, HI.

• Thelma Parker Memorial Public Library, 59-1207 Mamalahoa Highway, Waimea (Kamuela), HI.

Issued in Hawthorne, California on March 18, 2011.
Larry Tonish,
Program Manager, Air Tour Management Program.

[FR Doc. 2011-7310 Filed 3-28-11; 8:45 am]

BILLING CODE 4910-13-P